DEPARTMENT OF COMMERCE

National Oceanic and Atmospheric Administration

[RTID 0648-XV124]

Pacific Fishery Management Council; Public Meeting

AGENCY: National Marine Fisheries Service (NMFS), National Oceanic and Atmospheric Administration (NOAA), Commerce.

ACTION: Notice of public meeting (webinar).

SUMMARY: Participants in the Pacific Fishery Management Council's (Pacific Council's) 2019 groundfish stock assessment process will hold a meeting via webinar to review and evaluate the 2019 stock assessment review (STAR) process. The goal of the webinar is to solicit process improvements to recommend for future groundfish stock assessments and STAR panel reviews. Process recommendations will be provided to the Pacific Council at their March 2020 meeting in Rohnert Park, CA. The webinar meeting is open to the public.

DATES: The Groundfish Stock Assessment Process Review webinar will be held Friday, December 13, 2019, from 8:30 a.m. to 5 p.m. (Pacific Standard Time) or until business for the day has been completed.

ADDRESSES: The Groundfish Stock Assessment Process Review meeting will be held by webinar. To attend the webinar, (1) join the meeting by visiting this link http://www.gotomeeting.com/webinar; (2) enter the webinar ID: 729-240-515, and (3) enter your name and email address (required). After logging into the webinar, please (1) dial this TOLL number: 1-562-247-8321 (not a toll-free number); (2) enter the attendee phone audio access code: 221-339-854; and (3) then enter your audio phone pin (shown after joining the webinar). NOTE: We have disabled mic/speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the https://www.gotomeeting.com/webinar/ipad-iphone-android-webinar-apps). You may send an email to Mr. Kris Kleinschmidt at Kris.Kleinschmidt@noaa.gov or contact him at 503-820-2280, extension 411 for technical assistance. A public listening station will also be available at the Pacific Council office.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the Groundfish Stock Assessment Process Review webinar meeting is to review the 2019 groundfish stock assessment and STAR Panel process and recommend process improvements for future groundfish stock assessments and STAR Panel meetings.

No management actions will be decided by the participants attending the Groundfish Stock Assessment Process Review webinar. The webinar participants' role will be the development of recommendations and a report for consideration by the Pacific Council's Scientific and Statistical Committee, other Pacific Council advisors, and the Pacific Council at the March 2020 meeting in Rohnert Park, CA.

Although nonemergency issues not contained in the meeting agendas may be discussed, those issues may not be the subject of formal action during this webinar. Action will be restricted to those issues specifically listed in this notice and any issues arising after publication of this notice that require emergency action under Section 305(c) of the Magnuson-Stevens Fishery Conservation and Management Act, provided the public has been notified of the intent of the webinar participants to take final action to address the emergency.

Special Accommodations

The meeting is physically accessible to people with disabilities. Requests for sign language interpretation or other auxiliary aids should be directed to Mr. Kris Kleinschmidt (kris.kleinschmidt@noaa.gov, (503) 820-2411), at least 10 days prior to the meeting date.

Authority: 16 U.S.C. 1801 et seq.

Dated: November 4, 2019.
Tracey L. Thompson,
Acting Deputy Director, Office of Sustainable Fisheries, National Marine Fisheries Service.

[FR Doc. 2019-24365 Filed 11-7-19; 8:45 am]

BILLING CODE 3510-22-P